NUCLEAR REGULATORY COMMISSION

10 CFR Part 72

RIN 3150-AF94

Changes, Tests, and Experiments; Corrections

AGENCY: Nuclear Regulatory Commission.

ACTION: Final rule; correcting amendments.

SUMMARY: This document corrects a final rule appearing in the Federal Register on October 4, 1999 (65 FR 53582). This action to correct two editorial errors is necessary for clarity and consistency in the regulations.

DATES: Effective on April 5, 2001.

FOR FURTHER INFORMATION CONTACT: Jayne McCausland [telephone (301) 415-6219, e-mail JMM2@nrc.gov] of the Office of Nuclear Material Safety and Safeguards, U.S. Nuclear Regulatory Commission, Washington, DC 20555-0001.

SUPPLEMENTARY INFORMATION:

Background

On October 21, 1998 (64 FR 56098), a proposed rule to revise the “Changes, Tests, and Experiments” regulations was published in the Federal Register, and on October 4, 1999 (65 FR 53582), the NRC published the final rule. The purpose of the rule was to revise §§ 50.59 and 72.48 to reduce regulatory burden and enhance clarity between the regulations in Parts 50 and 72. After the final rule was published, two minor editorial errors were discovered in § 72.48. Industry identified one error in paragraph (c)(2)(iii) and NRC identified the other error in (c)(2)(vii). In paragraph (c)(2)(iii), the term “(as updated)” was omitted. This term had been used in the proposed rule issued on October 21, 1998 (64 FR 56098), and no public comments had been received on its use. In paragraph (c)(2)(vii), the phrase “as described in the FSAR” had been mispositioned in the sentence, resulting in an inconsistency between this section and § 50.59(c)(2)(vii), which issues the same criterion.

Need for Corrections

As published, the final rule entitled “Changes, Tests, and Experiments” (64 FR 53582; October 4, 1999) contains errors which may prove to be misleading and need to be clarified.

List of Subjects in 10 CFR Part 72

Criminal penalties, Manpower training programs, Nuclear materials, Occupational safety and health, Reporting and recordkeeping requirements, Security measures, Spent fuel.

For the reasons set out in the preamble and under the authority of the Atomic Energy Act of 1954, as amended, the Energy Reorganization Act of 1974, as amended, and 5 U.S.C. 553, the NRC is adopting the following amendment to 10 CFR Part 72.

PART 72—LICENSING REQUIREMENTS FOR THE INDEPENDENT STORAGE OF SPENT NUCLEAR FUEL AND HIGH-LEVEL RADIOACTIVE WASTE

1. The authority citation for Part 72 continues to read as follows:

Authority: Secs. 51, 53, 57, 62, 63, 65, 69, 81, 161, 182, 183, 184, 186, 187, 189, 68 Stat. 929, 930, 932, 933, 934, 935, 948, 953, 954, 955, as amended, sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended, 202, 206, 88 Stat. 1242, as amended, 1244, 1246 (42 U.S.C. 5841, 5842, 5846); Pub. L. 95-601, sec. 10, 92 Stat. 295 as amended by Pub. L. 102-486, sec. 7902, 106 Stat. 3123 (42 U.S.C. 5851); sec. 102, Pub. L. 91-190, 83 Stat. (42 U.S.C. 4332); secs. 131, 132, 133, 135, 137, 141, Pub. L. 97-425, 96 Stat. 2229, 2230, 2232, 2241, sec. 148, Pub. L. 100-203, 101 Stat. 1330-235 (42 U.S.C. 10151, 10152, 10153, 10155, 10157, 10161, 10168).

Section 72.44(g) also issued under secs. 142(b) and 148(c), (d), Pub. L. 100-203, 101 Stat. 1330-232, 1330—236 (42 U.S.C. 10162(b), 10168(c), (d)). Section 72.46 also issued under sec. 189, 68 Stat. 935 (42 U.S.C. 2239); sec. 134, Pub. L. 97-425, 96 Stat. 2230 (42 U.S.C. 10154). Section 72.96(d) also issued under sec. 145(g), Pub. L. 100-203; 101 Stat. 1330-235 (42 U.S.C. 10165(g)). Subpart J also issued under secs. 2(2), 2(15), 2(19), 117(a), 141(h), Pub. L. 97-425, 96 Stat. 2202, 2203, 2204, 2222, 2244 (42 U.S.C. 10101, 10137(a), 10161(h). Subparts K and L are also issued under sec. 133, 96 Stat. 2230 (42 U.S.C. 10153) and sec. 218(a), 96 Stat. 2252 (42 U.S.C. 10198).

2. In § 72.48, paragraphs (c)(2)(iii) and (c)(2)(vii) are revised to read as follows:

§ 72.48 Changes, tests, and experiments.

* * * * *

(c) * * *

(2) * * *

(iii) Result in more than a minimal increase in the consequences of an accident previously evaluated in the FSAR (as updated);

* * * * *

(vii) Result in a design basis limit for a fission product barrier as described in the FSAR (as updated) being exceeded or altered; or

* * * * *

Dated at Rockville, Maryland, this 21st day of February, 2001.
For the Nuclear Regulatory Commission.
Michael T. Lesar,
Acting Chief, Rules and Directives Branch, Division of Administrative Services, Office of Administration.

[FR Doc. 01-4620 Filed 2-23-01; 8:45 am]

BILLING CODE 7590-01-P